GENERAL SERVICES ADMINISTRATION

[Notice-MY-2023-02; Docket No. BSC-PMF-2023-0001; Sequence No. 1]

Public Review of Shared Services Performance Management Framework; Request for Public Comment

AGENCY: Office of Government-wide Policy (OGP); General Services Administration, (GSA).

ACTION: Notice; request for public comment.

SUMMARY: This notice informs the public of the opportunity to provide input on the performance management framework that has been created in support of the Quality Service Management Offices (QSMOs). This input will be considered as GSA OGP updates the performance management framework.

DATES: The performance framework is available on regulations.gov. Interested parties can review the framework and submit comments via the method outlined in the ADDRESSES section on or before March 24, 2023.

ADDRESSES: Submit comments in response to Notice BSC-PMF-2023-0001 by http://www.regulations.gov. Submit comments via the Federal eRulemaking portal by searching for “Notice BSC-PMF-2023-0001.” Select the link “Comment Now” that corresponds with “Notice BSC-PMF-2023-0001.” Follow the instructions provided at the screen. Please include your name, company name (if any), and “Notice BSC-PMF-2023-0001” on your attached document.

• Instructions: Please submit comments only and cite “Notice BSC-PMF-2023-0001,” in all correspondence related to this notice. Comments received generally will be posted without change to http://www.regulations.gov, including any personal and/or business confidential information provided. To confirm receipt of your comment(s), please check http://www.regulations.gov, approximately two-to-three business days after submission to verify posting.

FOR FURTHER INFORMATION CONTACT: Courtney Anderson, Program Manager, Office of Shared Solutions and Performance Improvement (OSSPI), OGP, at 202-368-2681, or by email at courtney.anderson@gsa.gov.

SUPPLEMENTARY INFORMATION: On April 26, 2019, the Office of Management and Budget (OMB) published OMB memorandum 19-16, Centralized Mission Support Capabilities for the Federal Government (available at https://www.whitehouse.gov/wp-content/uploads/2019/04/M-19-16.pdf). This memo states that “The success of this strategy will require strong, collaborative governance and an operating model that responds to varying levels of maturity within agencies, continuous engagement of agency operational teams, establishment and adherence to common business standards, and assessment of QSMO performance (including the investments made over time to improve QSMO quality and effectiveness).” The OSSPI within OGP has worked to develop a phased approach to measuring QSMO performance as mandated by Memo 19-16. The purpose of this framework is to measure the effectiveness of the QSMOs in key areas—customer, financial, standards adoption, marketplace operations, and IT modernization.

GSA is seeking public feedback on this performance framework, including comments on understandability of the standards, suggested changes, and usefulness of the framework to the QSMO marketplace.

Guiding questions include:

• Is this framework easy to understand?

• What would you change about the framework? Is there anything missing?

Comments will be used to make updates to the performance framework as needed.

Krystal J. Brumfield,
Associate Administrator, Office of Government-wide Policy, General Services Administration.

[FR Doc. 2023-03587 Filed 2-21-23; 8:45 am]

BILLING CODE 6820-14-P